DEPARTMENT OF THE INTERIOR

Bureau of Land Management

[LLNVB02000. L51100000. EX0000. LVEMF140278014x MO#4500131612]

Notice of Availably of the Draft Environmental Impact Statement for the Proposed Gemfield Mine Project, Esmeralda County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) Tonopah Field Office (TFO), Battle Mountain, Nevada, has prepared a Draft Environmental Impact Statement (EIS) for the Gemfield Mine Project and is announcing the beginning of the public comment period to solicit public comments on the Draft EIS. Gemfield Resources, Ltd. (GRL) proposes to construct and operate a conventional open pit gold mining operation in the Goldfield Mining District of Esmeralda County, Nevada, as described in the Plan of Operations (Plan) submitted by GRL for the Gemfield Mine Project (Project).

DATES: To ensure comments will be considered, the BLM must receive written comments on the Draft EIS within 45 days following the date the Environmental Protection Agency publishes its Notice of Availability in the Federal Register. The date(s) and location(s) of any public meetings or other public involvement activities will be announced at least 15 days in advance through public notices, media releases, local media, newspapers, mailings, and the BLM website at: www.blm.gov/nevada.

ADDRESSES: You may submit comments related to the Project by any of the following methods:

• blm_nv_bmdo_mlfo_gemfieldeis@blm.gov.

• Fax: 775-635-4034.

• Mail: BLM Tonopah Field Office, 1553 Main Street, Tonopah, Nevada 89049.

Documents pertinent to this proposal may also be examined at the TFO.

FOR FURTHER INFORMATION CONTACT: Kevin Hurrell, Project Manager; telephone: 775-635-4000; address: 50 Bastian Road, Battle Mountain, Nevada 89820; or email://blm_nv_bmdo_mlfo_gemfieldeis@blm.gov. Contact Kevin Hurrell to have your name added to BLM's mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The proposed Project is located approximately 30 miles south of Tonopah, Nevada, and approximately 0.5 miles north of the town of Goldfield, Nevada. Goldfield is located approximately 30 miles south of Tonopah and 174 miles northwest of Las Vegas, Nevada. Approximately 1,935.9 acres of land occurs within the Plan boundary, including approximately 1,214.2 acres of BLM-administered land that is managed by the TFO of the Battle Mountain District and 721.7 acres of private land. The proposed Project would result in approximately 1,337.3 acres of surface disturbance, of which 969.4 acres would occur on BLM-administered land and 367.9 acres would occur on private land. If the Project is approved, GRL estimates the mine life would be approximately 12 years.

No Action Alternative

The development of new facilities that comprise the Proposed Action would not be constructed under the No Action Alternative. Under this alternative, GRL would not engage in any of the proposed mining operations but would be permitted to continue exploration activities under existing approved authorizations (NV-076555 and NV-077457). Exploration has been permitted on 23.84 acres of previously disturbed federally administered land and privately owned and patented and unpatented lands.

Reduced Mine Plan Alternative

The Reduced Mine Plan Alternative would consist of the same overall activities as described for the Proposed Action but would have a reduced open pit footprint, configuration, and depth. The resulting open pit would result in corresponding effects on the configuration of the major mine facilities, particularly the Waste Rock Disposal Areas (WRDAs) and Heap Leach Pad (HLP). However, there would be no changes to the Plan boundary access routes, land status, or proposed Right of Way (ROW) actions.

Overall, this alternative would result in approximately 86.6 fewer acres of disturbance (including approximately 13 fewer acres of disturbance on BLM land) as compared to the Proposed Action. Total disturbance for this alternative is 1,250.7 acres including 956.4 acres of public and 294.3 acres of private land.

Partial Backfill Alternative

Under this alternative, approximately 37 million tons of waste rock from the East WRDA would be placed in the East and West lobes of the open pit at elevations ranging from 5,405 feet to 5,510 feet, which is the modeled recovered water level and the minimum amount of backfill required to eliminate the development of the pit lakes. Placement of waste rock in the open pit would eliminate the formation of pit lakes and would reduce the height of the East WRDA. The proposed surface disturbance, project location, access routes, land status, ROW amendments and existing disturbance would be the same as described for the Proposed Action. This alternative also would add approximately 2 years to mine operation and reclamation activities.

The Draft EIS describes and analyzes the Proposed Project's direct, indirect, and cumulative impacts on all affected resources. In addition to the Proposed Project, and No Action Alternative, two additional action alternatives were analyzed, the Reduced Mine Plan Alternative and the Partial Backfill Alternative.

On December 24, 2013, a Notice of Intent was published in the Federal Register inviting scoping comments on the Proposed Action. The BLM held a public scoping meeting in Tonopah, Nevada on January 10, 2014. The BLM received seven scoping comment submittals during the scoping period. Concerns raised included impacts to water resources, cultural resources, and land use and realty.

The BLM has utilized and coordinated the NEPA scoping and comment process to help fulfill the public involvement requirements under the National Historic Preservation Act (NHPA) (54 U.S.C. 306108) as provided in 36 CFR 800.2(d)(3), and the agency continues to do so. The information about historical and cultural resources within the area potentially affected by the Proposed Project has assisted the BLM in identifying and evaluating impacts to such resources in the context of both NEPA and the NHPA.

The BLM has consulted and continues to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the Proposed Project, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7

Timothy Coward,
Field Manager, Tonopah Field Office.

[FR Doc. 2019-04262 Filed 3-7-19; 8:45 am]

BILLING CODE 4310-HC-P